DEPARTMENT OF TRANSPORTATION

National Highway Traffic Safety Administration

[Docket No. NHTSA-2012-0111; Notice 2]

Michelin North America, Inc., Moot of Petition for Decision of Inconsequential Noncompliance

AGENCY: National Highway Traffic Safety Administration, DOT.

ACTION: Notice of petition mootness.

SUMMARY: Michelin North America, Inc. (Michelin),¹ has determined that certain BF Goodrich brand tires manufactured between June 12, 2011 and April 21, 2012, do not fully comply with paragraph S5.5(b) of Federal Motor Vehicle Safety Standard (FMVSS) No. 139, New Pneumatic Radial Tires for Light Vehicles. Michelin has filed an appropriate report dated July 16, 2012, pursuant to 49 CFR part 573, Defect and Noncompliance Responsibility and Reports.

¹ Michelin North America, Inc. is a manufacturer of replacement equipment and is registered under the laws of the state of New York.

Pursuant to 49 U.S.C. 30118(d) and 30120(h) (see implementing rule at 49 CFR part 556), Michelin submitted a petition for an exemption from the notification and remedy requirements of 49 U.S.C. Chapter 301 on the basis that this noncompliance is inconsequential to motor vehicle safety.

Notice of receipt of Michelin's petition was published, with a 30-day public comment period, on February 11, 2013, in the Federal Register (78 FR 9774). One comment was received from the Michelin stating that after further research it believes that it filed the petition in error because the described condition is not a noncompliance. To view the petition and all supporting documents log onto the Federal Docket Management System Web site at: http://www.regulations.gov/. Then follow the online search instructions to locate docket number “NHTSA-2012-0111.”

FOR FURTHER INFORMATION CONTACT: For further information on this decision, contact Mr. Abraham Diaz, Office of Vehicle Safety Compliance, the National Highway Traffic Safety Administration (NHTSA), telephone (202) 366-5310, facsimile (202) 366-7002.

Tires Involved: Affected are approximately 1,300 g-Force Sport Comp2, size 205/45ZR17 88W, BF Goodrich brand tires manufactured between June 12, 2011 and April 21, 2012.

Noncompliance: Michelin originally explained that the noncompliance is that, due to a mold labeling error, the subject tires sidewall markings on the opposite side of the full DOT TIN are lacking the designation “Extra Load” and thus do not conform to the requirements of 49 CFR 571.139 paragraph S5.5(b).

Rule Text: Paragraph S5.5 of FMVSS No. 139 requires in pertinent part:

S5.5 Tire markings. Except as specified in paragraphs (a) through (i) of S5.5, each tire must be marked on each sidewall with the information specified in S5.5(a) through (d) and on one side-wall with the information specified in S5.5(e) through (i) according to the phase-in schedule specified in S7 of this standard. The markings must be placed between the maximum section width and the bead on at least one sidewall, unless the maximum section width of the tire is located in an area that is not more than one-fourth of the distance from the bead to the shoulder of the tire. If the maximum section width that falls within that area, those markings must appear between the bead and a point one-half the distance from the bead to the shoulder of the tire, on at least one sidewall. The markings must be in letters and numerals not less than 0.078 inches high and raised above or sunk below the tire surface not less than 0.015 inches . . .

(b) The tire size designation as listed in the documents and publications specified in S4.1.1 of this standard . . .

Summary of Michelin's Analysis: Michelin's original analysis stated its belief that while the noncompliant tires lack the marking “Extra Load” on the sidewall opposite of the full DOT TIN as required by FMVSS No. 139, it is inconsequential as it relates to motor vehicle safety for the following reasons:

1. The subject tires meet or exceed all applicable FMVSS performance standards.

2. Associated with the designation “Extra Load” is a higher maximum load and a possible higher maximum inflation pressure. Each of the subject tires has been marked on both sidewalls with a maximum load of 560 kg (1235 lbs) which, under the ETRTO standard, corresponds to an Extra Load (or Reinforced) tire of the size 205/45ZR17 and load index of 88. The maximum inflation pressure marked beneath each maximum load is 340 kPa (50 psi), which is consistent with an Extra Load tire.

3. Per FMVSS No. 139 and ETRTO standards, the marking “Extra Load” alerts the installer to the fact that the subject tire has a higher load carrying capacity than the standard load tire of the same dimension. In the absence of the “Extra Load” mark, an installer could fit the subject tire to a vehicle which requires a standard load tire. But since the subject tire has the performance capacity of an Extra Load tire, the load requirement of the standard load fitment would be exceeded.

4. The subject tire is also a directional tire for which there is no intended outboard sidewall, that is, the preferred direction of rotation is marked on the sidewall, and when the subject tires are mounted on a vehicle, the left side tires on the vehicle will show the full DOT TIN and no Extra Load designation after the tire size. While this may cause some confusion for the operator, the marked maximum load capacity of 560 kg (1235 lbs) will be visible on the outboard facing sidewall of all four tires, and will confirm the same maximum load capacity of each fitted tire.

5. All other sidewall markings are consistent with the requirements of FMVSS No. 139 for a passenger category tire and the non-conformity of the subject tires has no impact on the load carrying capacity of the tire on a motor vehicle, nor on motor vehicle safety.

Michelin has additionally informed NHTSA that it has corrected future production and that all other tire labeling information is correct.

In the comment that Michelin posted to the petition docket, it contends that after further research that it now believes that a noncompliance does not exist and that its petition is consequently moot. Michelin based this belief on previous statements published by NHTSA that it contends show that “extra load” is an “optional load identification” and is therefore considered as separate from the mandatory “tire size designation.”

In summation, Michelin believes that its original determination that there is a noncompliance in the subject tires as described in the subject petition was in error and that its petition, to exempt it from providing recall notification of noncompliance as required by 49 U.S.C. 30118 and remedying the recall noncompliance as required by 49 U.S.C. 30120 was unnecessary and should be considered to be moot.

NHTSA Decision: Inconsequential noncompliance petitions filed under 49 CFR part 556 are only valid in situations where there is a noncompliance with a FMVSS. In its comment to the petition docket, Michelin explained that its petition was submitted in error and should be considered as moot.

Based on Michelin's description of the subject tire molding error NHTSA has determined that the alleged tire sidewall labeling noncompliance described in the subject petition is not a noncompliance with FMVSS No. 139 or any other applicable FMVSS because the “extra load” label is an “optional load identification” and not a mandatory “tire size designation.” Therefore, this petition is moot and no further action on the petition is warranted.

Authority: (49 U.S.C. 30118, 30120: Delegations of authority at CFR 1.95 and 501.8)

Issued On: August 7, 2013.
Claude H. Harris,
Director, Office of Vehicle Safety Compliance.

[FR Doc. 2013-20235 Filed 8-19-13; 8:45 am]

BILLING CODE 4910-59-P